DEPARTMENT OF HOMELAND SECURITY

Transportation Security Administration

[Docket No. TSA-2004-19147]

Intent to Request Renewal From OMB of One Current Public Collection of Information: Flight Training for Aliens and Other Designated Individuals; Security Awareness Training for Flight School Employees

AGENCY: Transportation Security Administration, DHS.

ACTION: 60-day Notice.

SUMMARY: The Transportation Security Administration (TSA) invites public comment on one currently approved Information Collection Request (ICR), Office of Management and Budget (OMB) control number 1652-0021, abstracted below, that we will submit to OMB for renewal in compliance with the Paperwork Reduction Act (PRA). The ICR describes the nature of the information collection and its expected burden. The collection involves conducting background checks for all aliens and other designated individuals seeking flight instruction (“candidates”) from Federal Aviation Administration (FAA)-certified flight training providers. Through the information collected, TSA will determine whether a candidate is a threat to aviation or national security, and thus prohibited from receiving flight training. Additionally, flight training providers are required to conduct a security awareness program for their employees and to maintain records associated with this training.

DATES: Send your comments by November 21, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0021, Flight Training for Aliens and Other Designated Individuals; Security Awareness Training for Flight School Employees, 49 CFR part 1552. Pursuant to section 612 of the Vision 100—Century of Aviation Reauthorization Act, TSA is required to conduct background checks for all aliens and other designated individuals seeking flight instruction with Federal Aviation Administration (FAA)-certified flight training providers. In September 2004, TSA developed and implemented these requirements at 49 CFR part 1552, prescribing standards relating to the security threat assessment process that TSA conducts to determine whether candidates are a threat to aviation or national security and thus prohibited from receiving flight training. The collection of information required under 49 CFR part 1552 permits TSA to gather candidates' biographic information and fingerprints, which are used to perform the background checks. Additionally, flight training providers are required to conduct security awareness training for their employees to increase awareness of suspicious circumstances and activities of individuals enrolling in, or attending, flight training. The flight training provider may use the initial security awareness training program offered by TSA, or an alternative initial training program offered by a third party, or training designed by the flight training provider itself. Each flight training provider employee must receive recurrent security awareness training each year, and flight training providers must maintain records of the training completed throughout the course of the individual's employment, and for one year after the individual is no longer a flight training provider employee.

Based on the numbers of respondents to date, TSA estimates a total of 31,000 respondents annually: 26,500 candidates and 4,500 flight training providers.

Respondents are required to provide the subject information every time an alien or other designated individual applies for pilot training as described in the regulation, which is estimated to be twice a year per candidate, for a total of 53,000 responses per year. In response to comments to the interim final rule, TSA delineated the types of training events that would be subject to the requirements. TSA specified that candidates applying for flight training in aircraft weighing 12,500 lbs. or less would be subject to requirements only if they are training towards an initial certificate, an instrument, or multi-engine training. See TSA's clarifying interpretation document (Document ID: TSA-2004-19147-0337), dated January 5, 2005, titled “Flight Schools and Individuals Subject to 49 CFR part 1552; RE: Interpretation of `Flight Training' for Aircraft with an MTOW of 12,500 Pounds or Less and Exemption from Certain ‘Recurrent Training’ Information Submission Requirements Contained in 49 CFR part 1552.” This document is available in the docket for the interim final rule on “Flight Training for Aliens and Other Designated Individuals; Security Awareness Training for Flight School Employees” (Docket ID: TSA-2004-19147). This clarification reduced the number of candidates anticipated from the original estimates made in November 2004. In addition, 1,500 more flight training providers have participated in this program.

TSA estimates that it will take the 26,500 candidates 45 minutes per application (twice per year) to provide TSA with all of the information required, for a total approximate application burden of 39,750 hours per year. Flight training providers must keep records for five years from the time they are created, and it is estimated each of the 4,500 flight training providers will carry an annual record keeping burden of 104 hours, for a total of 468,000 hours. Thus, TSA estimates the combined hour burden associated with this collection to be 507,750 hours annually.

Issued in Arlington, Virginia, on September 15, 2011.
Joanna Johnson,
TSA Paperwork Reduction Act Officer, Office of Information Technology.

[FR Doc. 2011-24158 Filed 9-20-11; 8:45 am]

BILLING CODE 9110-05-P